NATIONAL COUNCIL ON DISABILITY

Advisory Committee Meeting

AGENCY: National Council on Disability (NCD).

SUMMARY: This notice sets forth the schedule of the forthcoming conference call for NCD's Cultural Diversity Advisory Committee. Notice of this conference call is required under section 10(a)(1)(2) of the Federal Advisory Committee Act (Pub. L. 92-463).

Cultural Diversity Advisory Committee: The purpose of NCD's Cultural Diversity Advisory Committee is to provide advice and recommendations to NCD on issues affecting people with disabilities from culturally diverse backgrounds. Specifically, the committee will help identify issues, expand outreach, infuse participation, and elevate the voices of underserved and unserved segments of this nation's population that will help NCD develop federal policy that will address the needs and advance the civil and human rights of people from diverse cultures.

DATES: July 31, 2001, 2:30 p.m.-3:30 p.m. EDT

FOR FURTHER INFORMATION CONTACT: Gerrie Drake Hawkins, Ph.D., Program Specialist, National Council on Disability, 1331 F Street NW, Suite 1050, Washington, D.C. 20004; 202-272-2004 (voice), 202-272-2074 (TTY), 202-272-2022 (fax), ghawkins@ncd.gov (e-mail).

Agency Mission: The National Council on Disability is an independent federal composed of 15 members appointed by the President of the United States and confirmed by the U.S. Senate. Its overall purpose is to promote policies, programs, practices, and procedures that guarantee equal opportunity for all people with disabilities, regardless of the nature of severity of independent living, and inclusion and integration into all aspects of society.

This committee is necessary to provide advice and recommendations to NCD on disability issues.

We currently have a membership reflecting our nation's diversity and representing a variety of disabling conditions from across the United States.

Open Meeting: This advisory committee meeting/conference call of the National Council on Disability will be open to the public. However, due to fiscal constraints and staff limitations, a limited number of additional lines will be available. Individuals can also participate in the conference call at the NCD office. Those interested in joining this conference call should contact the appropriate staff member listed above.

Records will be kept of all Cultural Diversity Advisory Committee meetings/calls and will be available after the meeting for public inspection at the National Council on Disability.

Signed in Washington, DC, on June 26, 2001.
Ethel D. Briggs,
Executive Director.

[FR Doc. 01-16474 Filed 6-29-01; 8:45 am]

BILLING CODE 6820-MA-M